DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing an update to the identifying information of three persons currently included on the Specially Designated Nationals and Blocked Persons List. All property and interests in property subject to U.S. jurisdiction of these persons are blocked, and U.S. persons are generally prohibited from engaging in transactions with them.

DATES: See Supplementary Information section for effective date(s).

FOR FURTHER INFORMATION CONTACT: OFAC: Andrea Gacki, Director, tel.: 202-622-2490; Associate Director for Global Targeting, tel.: 202-622-2420; Assistant Director for Sanctions Compliance & Evaluation, tel.: 202-622-2490; Assistant Director for Licensing, tel.: 202-622-2480; or Assistant Director for Regulatory Affairs, tel. 202-622-4855.

SUPPLEMENTARY INFORMATION:

Electronic Availability

The Specially Designated Nationals and Blocked Persons List and additional information concerning OFAC sanctions programs are available on OFAC's website (www.treasury.gov/ofac).

Notice of OFAC Actions

On April 11, 2022, OFAC updated the Specially Designated Nationals and Blocked Persons List entries for the following persons, whose property and interests in property subject to U.S. jurisdiction continue to be blocked pursuant to the prohibitions in E.O. 13726.

Entities:

1. AL-WADI, Faysal (a.k.a. WADI, Faisal Mohamed M; a.k.a. WADY, Faisl Mohamed), Malta; DOB 15 Dec 1978; alt. DOB 15 Dec 1976; POB Libya; nationality Libya; Gender Male; Passport 530037 (Libya); National ID No. 037956A (Malta) (individual) [LIBYA3].

2. WADI, Musbah Mohamad M (a.k.a. WADY, Mosbah Mohamed), Malta; Cyprus; Omar Almohar, Tripoli, Libya; DOB 12 Jul 1993; POB Libya; nationality Libya; Gender Male; Passport 524945 (Libya); alt. Passport RL2957C0 (Libya) (individual) [LIBYA3].

3. MUSBAH, Nourddin Milood M (a.k.a. MOHAMED, Nour Addin Meloud), Malta; Cyprus; Ben Ashoor, Tripoli, Libya; DOB 02 Sep 1974; nationality Libya; Gender Male; Passport 998635 (Libya); alt. Passport PK31LZK9 (Libya) (individual) [LIBYA3].

Dated: April 11, 2022.
Andrea Gacki,
Director, Office of Foreign Assets Control, U.S. Department of the Treasury.

[FR Doc. 2022-08317 Filed 4-18-22; 8:45 am]

BILLING CODE 4810-AL-P